Presidential Determination No. 2009-31 of September 29, 2009

Presidential Determination On the Delegation of Certifications Under Section 1512 of Public Law 105-261

Memorandum for the Secretary of Commerce

By virtue of the authority vested in me as President by the Constitution and the laws of the United States of America, including section 301 of Title 3, United States Code, I hereby delegate to you the functions of the President under section 1512 of the National Defense Authorization Act for Fiscal Year 1999 (NDAA).

In the performance of your responsibility under this memorandum, you shall consult, as appropriate, the heads of other executive departments and agencies.

You are authorized and directed to publish this determination in the Federal Register.

THE WHITE HOUSE,

Washington, September 29, 2009

[FR Doc. E9-23917

Filed 10-1-09; 8:45 am]

Billing code 3510-BP-P